ENVIRONMENTAL PROTECTION AGENCY

40 CFR Part 80

Prohibition on Gasoline Containing Lead or Lead Additives for Highway Use: Fuel Inlet Restrictor Exemption for Motorcycles

Correction

Rule document 01-31797 was inadvertently published in the Proposed Rules section in the issue of Thursday, December 27, 2001, appearing on page 66867. It should have appeared in the Rules and Regulations Section.

[FR Doc. C1-31797 Filed 5-23-02; 8:45 am]

BILLING CODE 1505-01-D

FEDERAL COMMUNICATIONS COMMISSION

47 CFR Parts 21 and 74

[WT Docket No. 02-68; RM-9718; FCC 02-101]

Mulitpoint Distribution Service (“MDS”) and Instructional Television Fixed Service (“ITFS”)

Correction

In proposed rule document 02-12429 beginning on page 35083 in the issue of Friday, May 17, 2002, make the following correction:

On page 35083, in the second column, under the heading DATES:, “June 17, 2002” should read, “July 16, 2002”.

[FR Doc. C2-12429 Filed 5-23-02; 8:45 am]

BILLING CODE 1505-01-D

DEPARTMENT OF TRANSPORTATION

Immigration and Naturalization Service

8 CFR Parts 103 and 214

[INS No. 2185-02]

RIN 1115-AG55

Retention and Reporting of Information for F, J, and M Nonimmigrants; Student and Exchange Visitor Information System (SEVIS)

Correction

In proposed rule document 02-12022 beginning on page 34865 in the issue of Thursday, May 16, 2002, make the following correction:

On page 34865, first column, fifth line, “not” should read “now”.

[FR Doc. C2-12022 Filed 5-23-02; 8:45 am]

BILLING CODE 1505-01-D

DEPARTMENT OF THE TREASURY

Internal Revenue Service

26 CFR Part 1

[TD 8987]

RIN 1545-AY69, 1545-AY70

Required Distributions From Retirement Plans

Correction

In rule document 02-8963 beginning on page 18988 in the issue of Wednesday, April 17, 2002, make the following corrections:

§ 1.401(a)(9)-9 [Corrected]

On page 19016, in the “JOINT AND LAST SURVIVOR TABLE”, the table is corrected in part to read as follows.

Joint and Last Survivor Table
Ages | 20 | 21 | 22 | 23 | 24 | 25 | 26 | 27 | 28 | 29
* | * | * | * | *
25 | 67.9 | 67.3 | 66.7 | 66.2 | 65.6 | 65.1 | 64.6 | 64.2 | 63.7 | 63.3
* | * | * | * | *
63 | 63.2 | 62.3 | 61.3 | 60.3 | 59.4 | 58.4 | 57.5 | 56.5 | 55.6 | 54.6
* | * | * | * | *

[FR Doc. C2-8963 Filed 5-23-02; 8:45 am]

BILLING CODE 1505-01-D